DEPARTMENT OF COMMERCE

International Trade Administration

Antidumping or Countervailing Duty Order, Finding, or Suspended Investigation; Opportunity to Request Administrative Review

Correction

In notice document E9-18474, beginning on page 38397, in the issue of Monday, August 3, 2009, make the following correction:

On page 38398, at the end of the chart, in the section that reads “Countervailing Duty Proceedings,”, the table is corrected to read as follows:

| Period
Countervailing Duty Proceedings
Republic of Korea:
Corrosion-Resistant Carbon Steel Plate C-580-818 | 1/1/08—12/31/08
Dynamic Random Access Memory Semiconductors C-580-851 | 1/1/08—8/10/08
Stainless Steel Sheet and Strip in Coils C-580-835 | 1/1/08—12/31/08
The People's Republic of China:
Laminated Woven Sacks C-570-917 | 12/3/07—12/31/08
Sodium Nitrite C-570-926 | 4/11/08—12/31/08
Light-Walled Rectangular Pipe and Tube C-570-915 | 11/30/07—12/31/08

[FR Doc. Z9-18474 Filed 8-13-09; 8:45 am]

BILLING CODE 1505-01-D